SMALL BUSINESS ADMINISTRATION

[Disaster Declaration #15696 and #15697; North Carolina Disaster Number NC-00099]

Presidential Declaration Amendment of a Major Disaster for the State of North Carolina

AGENCY: U.S. Small Business Administration.

ACTION: Amendment 5.

SUMMARY: This is an amendment of the Presidential declaration of a major disaster for the State of North Carolina (FEMA-4393-DR), dated 09/14/2018. Incident: Hurricane Florence. Incident Period: 09/07/2018 through 09/29/2018.

DATES: Issued on 10/14/2018.

Physical Loan Application Deadline Date: 11/13/2018.

Economic Injury (EIDL) Loan Application Deadline Date: 06/14/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of North Carolina, dated 09/14/2018, is hereby amended to include the following areas as adversely affected by the disaster:

Primary Counties (Physical Damage and Economic Injury Loans): Anson, Orange, Union.

Contiguous Counties (Economic Injury Loans Only):

North Carolina—Alamance, Cabarrus, Caswell, Durham, Mecklenburg, Person.

South Carolina—Lancaster.

All other information in the original declaration remains unchanged.

(Catalog of Federal Domestic Assistance Number 59008)

James Rivera,
Associate Administrator for Disaster Assistance.

[FR Doc. 2018-22891 Filed 10-19-18; 8:45 am]

BILLING CODE 8025-01-P